DEPARTMENT OF ENERGY

Federal Energy Regulatory Commission

[Docket No. RP00-569-001]

Portland Natural Gas Transmission System; Notice of Proposed Changes in FERC Gas Tariff

November 2, 2000.

Take notice that on October 27, 2000, Portland Natural Gas Transmission System (PNGTS) tendered for filing as part of its FERC Gas Tariff, First Revised Volume No. 1, the following revised tariff sheets, to become effective March 27, 2000:

Substitute First Revised Sheet No. 351

Substitute First Revised Sheet No. 352

Substitute First Revised Sheet No. 354

Substitute First Revised Sheet No. 355

PNGTS states that the purpose of this filing is to comply with the requirements of the Commission's October 19, 2000 order in this proceeding.

PNGTS states that copies of the filing were mailed to all affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at

http://www.ferc.fed.us/efi/doorbell.htm.

David P. Boergers,
Secretary.

[FR Doc. 00-28640 Filed 11-7-00; 8:45 am]

BILLING CODE 6717-01-M